DEPARTMENT OF TRANSPORTATION

Federal Aviation Administration

Proposed Revised Advisory Circular (AC) 121.445-1E, Pilot-in-Command Qualifications for Special Airports, 14 CFR Part 121, Section 121.445

AGENCY: Federal Aviation Administration (FAA), DOT.

ACTION: Notice of availability of proposed revised AC and request for comments.

SUMMARY: The proposed AC provides information for all title 14 of the Code of Federal Regulations (14 CFR) part 119 certificate holders who conduct operations under 14 CFR part 121 concerning those airports where the Administrator has determined that special qualifications are required of pilots-in-command as provided in part 121, section 121.445. Additionally, this AC provides a suggested format for certificate holders, their pilots, and other persons to use to assess whether an individual airport should be designated as a special qualification airport.

DATES: Comments must be received on or before April 11, 2003.

ADDRESSES: Send all comments on the proposed AC to: Federal Aviation Administration, Air Carrier Operations Branch, AFS-220, 800 Independence Avenue, SW., Washington, DC 20591.

Comments Invited: A copy of the proposed AC can be found at the following Web address: http://www.opspecs.com/ops/default.htm. Additionally, a paper copy of the draft AC can be obtained by contacting AFS-220 at the above address. Comments are invited on all aspects of the proposed AC. Commenters should note that there are several new airports added to this AC (as indicated by the effective date) and one airport removed (Marquette, Michigan). When submitting comments to AFS-220, commenters must identify file number AC 121.445-1E. Comments may be inspected at the above address between 8 a.m. and 3 p.m. e.s.t. on weekdays, except Federal holidays.

FOR FURTHER INFORMATION CONTACT: Thomas Penland, AFS-220, at the above address or telephone at (202) 267-8166.

Issued in Washington, DC, on March 4, 2003.
Louis C. Cusimano,
Deputy Director, Flight Standards Service.

[FR Doc. 03-5935 Filed 3-11-03; 8:45 am]

BILLING CODE 4910-13-M